DEPARTMENT OF COMMERCE

International Trade Administration

[C-507-601]

Certain In-shell Roasted Pistachios from the Islamic Republic of Iran: Final Results of Countervailing Duty New Shipper Review

AGENCY: Import Administration, International Trade Administration, Department of Commerce.

SUMMARY: On November 28, 2007, the Department of Commerce (the Department) published in the Federal Register its preliminary results in the countervailing duty (CVD) new shipper review of certain in-shell roasted pistachios from Iran. See Certain In-shell Roasted Pistachios from the Islamic Republic of Iran: Preliminary Results of Countervailing Duty New Shipper Review, 72 FR 67276 (Preliminary Results). The Department has now completed this new shipper review in accordance with section 751(a)(2)(B) of the Tariff Act of 1930, as amended (the Act).

Based on our analysis of the comments received, the Department has not revised the net subsidy rate for Ahmadi's Agricultural Productions, Processing and Trade Complex (Ahmadi), the respondent company in this proceeding. The final net subsidy rate for the reviewed company is listed below in the section entitled “Final Results of Review.”

EFFECTIVE DATE: February 25, 2008.

FOR FURTHER INFORMATION CONTACT: Christopher Hargett, AD/CVD Operations, Office 3, Import Administration, U.S. Department of Commerce, Room 4225, 14th Street and Constitution Avenue, NW, Washington, DC 20230; telephone: (202) 482-4161.

SUPPLEMENTARY INFORMATION:

Background

On November 28, 2007, the Department published in the Federal Register its Preliminary Results. We invited interested parties to comment on these results. Since the preliminary results, the following events have occurred:

On December 28, 2007, we received case briefs from petitioners.¹ In response to a request from the Department, CalPure submitted a revised case brief on January 15, 2008. A hearing was held in response to a request from CalPure on January 17, 2008.

¹ Petitioners include the Western Pistachio Association (WPA) and its members and a domestic interested party, Cal Pure Pistachios, Inc. (Cal Pure).

In accordance with 19 CFR 351.214(b), this new shipper review covers only those producers or exporters for which a review was specifically requested. Accordingly, this new shipper review covers Ahmadi and ten programs for the period of review January 1, 2006, through December 31, 2006.

Scope of the Order

The product covered by this order is all roasted in-shell pistachio nuts, whether roasted in Iran or elsewhere, from which the hull has been removed, leaving the inner hard shells and the edible meat, as currently classifiable in the HTSUS under item number 0802.50.20.00. The written description of the scope of this proceeding is dispositive.

Analysis of Comments Received

For a discussion of the programs and the issues raised in the briefs by parties to this review, see the “Issues and Decision Memorandum” from Stephen J. Claeys, Deputy Assistant Secretary for Import Administration, to David M. Spooner, Assistant Secretary for Import Administration, concerning the “Final Results of Countervailing Duty New Shipper Review: Certain In-shell Roasted Pistachios from the Islamic Republic of Iran” (Decision Memorandum), dated February 19, 2008, which is hereby adopted by this notice. A listing of the issues which parties raised and to which we have responded, which are in the Decision Memorandum, is attached to this notice as Appendix I. Parties can find a complete discussion of the issues raised in this review and the corresponding recommendations in this public memorandum, which is on file in the Central Records Unit (CRU), room 1117 of the main Commerce building. In addition, a complete version of the Decision Memorandum can be accessed directly on the World Wide Web at http://ia.ita.doc.gov/frn. The paper copy and electronic version of the Decision Memorandum are identical in content.

Final Results of Review

In accordance with section 777A(e)(1) of the Act, 19 CFR 351.221(b)(5), and 19 CFR 351.214(i), we calculated an ad valorem subsidy rate for Ahmadi for calendar year 2006.

Producer/Exporter | Net Subsidy Rate
Ahmadi's Agricultural Productions, Processing and Trade Complex (Ahmadi) | 0.00 percent ad valorem

The Department intends to issue assessment instructions to U.S. Customs and Border Protection (CBP) 15 days after the date of publication of the final results of this new shipper review to liquidate shipments of subject merchandise by Ahmadi entered, or withdrawn from warehouse, for consumption on or after January 1, 2006, through December 31, 2006, without regard to countervailing duties because a zero percent subsidy rate was calculated.

The following cash deposit requirements will be effective upon publication of the final results of this new shipper review for all shipments of subject merchandise from Ahmadi entered or withdrawn from warehouse, for consumption on or after the publication date, as provided by section 751(a)(2)(C) of the Act: (1) For subject merchandise produced and exported by Ahmadi, the cash deposit rate will be zero; (2) for subject merchandise produced by Ahmadi but not exported by Ahmadi, the cash deposit rate will continue to be the all-others rate (i.e., 317.89 percent ad valorem); and (3) for subject merchandise exported by Ahmadi but not produced by Ahmadi, the cash deposit rate will continue to be the all-others rate (i.e., 317.89 percent ad valorem). The cash deposit rate for all other producers and/or exporters is not effected by these final results.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are issued and published in accordance with sections 751(a)(2)(C), 751(a)(3) and 777(i)(1) of the Act and 19 CFR 351.221(b)(5).

Dated: February 19, 2008.
David M. Spooner,
Assistant Secretary for Import Administration.

Appendix I - Issues and Decision Memorandum

I. Analysis Of Programs

A. Programs Determined to Be Not Used

1. Provision of Fertilizer and Machinery

2. Provision of Credit

3. Tax Exemptions

4. Provision of Water and Irrigation Equipment

5. Technical Support

6. Duty Refunds on Imported Raw or Intermediate Materials Used in the Production of Export Goods

7. Program to Improve Quality of Exports of Dried Fruit

8. Iranian Export Guarantee Fund

9. GOI Grants and Loans to Pistachio Farmers

10. Crop Insurance for Pistachios

II. Total Ad Valorem Rate

III. Analysis Of Comments

Comment 1: Whether Ahmadi's Sale of Subject Merchandise Constitutes a Bona Fide Sale

Comment 2: Whether the Department Should Assign an Adverse Facts Available Net Subsidy Rate to Ahmadi Because of the GOI's Failure to Cooperate with the Department By Providing Incomplete Questionnaire Responses

Comment 3: Whether the Department Should Assign an Adverse Facts Available Net Subsidy Rate to Ahmadi on the Grounds That it Failed to Respond to the Department's Questionnaires to the Best of its Ability

Comment 4: Whether the All-Others Rate Stated in the Preliminary Results Is Inaccurate and Should Be Corrected

[FR Doc. E8-3511 Filed 2-22-08; 8:45 am]

BILLING CODE 3510-DS-S